DEPARTMENT OF TRANSPORTATION

Pipeline and Hazardous Materials Safety Administration

[Docket No. PHMSA-2012-0079]

Pipeline Safety: Mechanical Fitting Failure Reports

AGENCY: Pipeline and Hazardous Materials Safety Administration (PHMSA), DOT.

ACTION: Notice; Issuance of Advisory Bulletin.

SUMMARY: This notice provides clarification to owners and operators of gas distribution pipeline facilities when completing the Mechanical Fitting Failure Report Form, PHMSA F 7100.1-2. Initial reviews of reports submitted for calendar year 2011 failures have identified a need for PHMSA to issue this notice to provide operators with additional guidance for reporting the apparent cause. PHMSA has also enhanced the online submittal process and plans to implement further improvements.

ADDRESSES: This document can be viewed on the PHMSA home page at: http://www.phmsa.dot.gov and in docket number PHMSA-2012-0079 at http://www.regulations.gov.

FOR FURTHER INFORMATION CONTACT: Chris McLaren, Distribution Integrity Management Program Coordinator at 281-216-4455, or by email at chris.mclaren@dot.gov.

SUPPLEMENTARY INFORMATION:

I. Background

Section 192.1009 of the pipeline safety regulations (49 CFR parts 190-199) requires each owner or operator of a gas distribution pipeline facility to file a written report for any mechanical fitting failure that results in a hazardous leak. A hazardous leak is defined in § 192.1001 as a leak that represents an existing or probable hazard to persons or property and requires immediate repair or continuous action until the conditions are no longer hazardous. Each report must be filed by March 15 of the following year on a Mechanical Fitting Failure Report Form (PHMSA F 7100.1-2).

A report is required for all failures regardless of the material composition, type, manufacturer, or size of the fitting. The reporting requirements apply to all failures that result in a hazardous leak due to the use of a fitting and may include failures in the body of the mechanical fitting, failures in the joints between the fitting and the pipe, indications of leakage from the seals associated with the fitting, and partial or complete separation of the pipe from the fitting. Operators are to report all mechanical fitting failures regardless of the cause. It is important to note that PHMSA does not seek information related to failures of cast iron bell and spigot joints unless the leak resulted from a failure of a mechanical fitting used to repair or reinforce a joint.

Question 15, “Apparent Cause of Leak”, under Part C of PHMSA F 7100.1-2 specifies various apparent causes of leaks. These causes include “Corrosion,” “Natural Forces,” “Excavation Damage,” “Other Outside Force Damage,” “Material or Welds/Fusions,” “Equipment,” “Incorrect Operation,” and “Other.” These apparent cause options contain two potential options for a failure that apparently results from incorrect installation of the mechanical fitting. One option is “Material or Welds/Fusions” with a subcategory of “Construction/Installation Defect.” The other option is “Incorrect Operation.” PHMSA prefers that failures resulting from an installation defect be reported using “Incorrect Operation” as the apparent cause. It is PHMSA's intent to capture failure data under the “Material or Welds/Fusions” leak cause category that is specific to manufacture, fabrication, material, and design defects.

In addition, operators have contacted PHMSA with a suggestion to expedite the finalization and electronic submission of reports. Many operators have developed unique identifiers for their mechanical fitting failures. These operators have suggested that the form be revised to allow the addition of this unique identifier to each report. This will allow for ease of identification and prevention of duplicate filing. PHMSA has revised the form to collect this information.

Over eight thousand Mechanical Fitting Failure Reports were received during calendar year 2011. Several operators have requested the ability to submit multiple reports simultaneously. PHMSA has begun work on a function within the online system to allow the simultaneous submission of multiple reports.

II. Advisory Bulletin (ADB-2012-07)

To: All Gas Distribution Operators.

Subject: Completion of Mechanical Fitting Failure Report Form, Leak Causes.

Advisory: As specified in § 192.1009, operators of all gas distribution pipeline facilities are required to report the failure of any mechanical fitting that results in a hazardous leak on a Mechanical Fitting Failure Report Form (PHMSA F 7100.1-2). The report is required for all failures regardless of the material composition, type, manufacturer, or size of the fitting. Operators are to report all mechanical fitting failures regardless of the cause. Reporting requirements also apply to failures resulting from the use of a fitting and may include failures in the body of mechanical fitting, failures in the joints between the fitting and the pipe, indications of leakage from the seals associated with the fitting, and partial or complete separation of the pipe away from the fitting. However, PHMSA does not seek information related to failures of cast iron bell and spigot joints unless the leak resulted from a failure of a mechanical fitting used to repair or reinforce a joint.

The apparent cause options under Part C, Question 15 (Apparent Cause of Leak) on PHMSA F 7100.1-2 contain two potential options for a failure that apparently results from incorrect installation of the mechanical fitting. One option is “Material or Welds/Fusions” with a subcategory of “Construction/Installation Defect.” The other option is “Incorrect Operation.” PHMSA prefers that failures resulting from an installation defect be reported using “Incorrect Operation” as the apparent cause. It is PHMSA's intent to capture failure data under the “Material or Welds/Fusions” leak cause category that is specific to manufacture, fabrication, material, and design defects.

When creating a report in PHMSA's online system, operators may now include a unique identifier for each report to help operators distinguish reports.

Several operators have requested the ability to submit multiple reports simultaneously. PHMSA has begun work on a function within the online system to allow the simultaneous submission of multiple reports.

Issued in Washington, DC on June 4, 2012.
Jeffrey D. Wiese,
Associate Administrator for Pipeline Safety.

[FR Doc. 2012-14089 Filed 6-8-12; 8:45 am]

BILLING CODE 4910-60-P